DEPARTMENT OF LABOR

Employment and Training Administration

[NAFTA-02821]

Tony Lama Boot Company, Justin Boot Company, Justin Management Company, El Paso, TX; Amended Certification Regarding Eligibility To Apply for NAFTA-Transitional Adjustment Assistance

In accordance with Section 250(A), Subchapter D, Chapter 2, title II, of the Trade Act of 1974 (19 U.S.C. 2273), the Department of Labor issued a Certification for NAFTA Transitional Adjustment Assistance on March 11, 1999, applicable to all workers of Tony Lama Boot Company located in El Paso, Texas. The notice was published in the Federal Register on April 27, 1999 (64 FR 22649).

At the request of the State agency, the Department reviewed the certification for workers of the subject firm. The workers are engaged in the production of boots. New information shows that some workers separated from employment at Tony Lama Boot Company had their wages reported under a separate unemployment insurance (UI) tax account for Justin Boot Company, Justin Management Company.

Based on these findings, the Department is amending the certification to properly reflect this matter.

The intent of the Department's certification is to include all workers of Tony Lama Boot Company who were adversely affected by imports from Mexico.

The amended notice applicable to NAFTA-02821 is hereby issued as follows:

All workers of Tony Lama Boot Company, Justin Boot Company, Justin Management Company, El Paso, Texas who became totally or partially separated from employment on or after December 28, 1997 through March 11, 201 are eligible to apply for NAFTA-TAA under Section 250 of the Trade Act of 1974.

Signed at Washington, D.C. This 14th day of March, 2000.
Grant D. Beale,
Program Manager, Division of Trade Adjustment Assistance.

[FR Doc. 00-7118 Filed 3-21-00; 8:45 am]

BILLING CODE 4510-30-M